UTAH RECLAMATION MITIGATION AND CONSERVATION COMMISSION

Notice of Availability of the Record of Decision on the Utah Lake Drainage Basin Water Delivery System, Central Utah Project

AGENCY: Utah Reclamation Mitigation and Conservation Commission.

ACTION: Notice of availability of the Record of Decision (ROD).

SUMMARY: On January 27, 2005, Jody L. Williams, Chairman of the Utah Reclamation Mitigation and Conservation Commission (Mitigation Commission) signed the Record of Decision (ROD) which documents selection of the Proposed Action as presented in the 2004 Utah Lake Drainage Basin Water Delivery System Final Environmental Impact Statement (INT FES 04-41) (2004 ULS FEIS) filed with the U.S. Environmental Protection Agency on September 30, 2004. The Mitigation Commission, Central Utah Water Conservancy District and Department of the Interior served as joint lead agencies in preparing the 2004 ULS FEIS. The Proposed Action, called the Spanish Fork Canyon-Provo Reservoir Canal Alternative, one other action alternative called the Bonneville Unit Water Alternative, and a No Action alternative are described and evaluated in the 2004 ULS FEIS, upon which the ROD is based.

The Spanish Fork Canyon-Provo Reservoir Canal Pipeline Alternative will deliver an average annual transbasin diversion of 101,900 acre-feet from the Colorado River Basin to the Bonneville Basin, which consists of a delivery of: 30,000 acre-feet of Municipal and Industrial (M&I) water for secondary use to southern Utah County and 30,000 acre-feet of M&I water to Salt Lake County water treatment plants; 1,590 acre-feet of M&I water already contracted to southern Utah County cities; and 40,310 acre-feet of M&I water to Utah Lake for exchange to Jordanelle Reservoir. A portion of the 40,310 acre-feet delivered to Utah Lake would be delivered via lower Hobble Creek to provide spawning habitat for the endangered June sucker, and via lower Provo River where it would help maintain minimum instream flows for June sucker spawning and other fishery and aquatic benefits. The 30,000 acre-feet (less the water returned to Interior under the Section 207 Program) of M&I water utilized in southern Utah County would be used in the cities' secondary water systems. Use of this water as a potable supply in the future would require additional NEPA compliance. Under the Proposed Action, Interior would acquire all of the District's secondary water rights in Utah Lake. These rights would amount to a maximum of 57,073 acre-feet. The acquired water rights would be used to exchange project water to Jordanelle Reservoir. All remaining environmental commitments associated with the Bonneville Unit would be completed and previously committed in-stream flows within the Bonneville Unit area and statutorily mandated in-stream flows would be provided.

The Acting Assistant Secretary for Water and Science, Department of the Interior issued a separate ROD for the ULS on December 22, 2004, also selecting the Proposed Action for implementation. The Assistant Secretary's separate decision is necessitated by the responsibility and authority of the Department of the Interior for other aspects of the project beyond the scope of the Mitigation Commission to mitigate for reclamation projects.

ADDRESSES: Copies of the ROD and/or FEIS can be obtained at the Utah Reclamation Mitigation and Conservation Commission, 102 W 500 S, Suite 315, Salt Lake City, Utah, 84101. They may also be viewed on the internet via the following Web address: http://www.mitigationcommission.gov/news.html.

FOR FURTHER INFORMATION CONTACT: Mr. Mark Holden, Projects Manager (801) 524-3146.

Dated: January 31, 2005.
Michael C. Weland,
Executive Director.

[FR Doc. 05-2548 Filed 2-9-05; 8:45 am]

BILLING CODE 4310-05-P